DEPARTMENT OF VETERANS AFFAIRS

[OMB Control No. 2900-0588]

Proposed Information Collection (Acquisition Regulation (VAAR) Provision 852.211-71, Special Notice) Activity: Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice describes the nature of the information collection and its expected cost and burden and includes the actual data collection instrument.

DATES: Written comments and recommendations on the proposed collection of information should be received on or before August 22, 2016.

ADDRESSES: Submit written comments on the collection of information through the Federal Docket Management System (FDMS) at www.Regulations.gov; or to Ricky Clark , Office of Acquisition and Logistics (003A2A), Department of Veterans Affairs, 810 Vermont Avenue NW., Washington, DC 20420; or email: ricky.clark@va.gov. Please refer to “OMB Control No. 2900-0588” in any correspondence. During the comment period, comments may be viewed online through FDMS.

FOR FURTHER INFORMATION CONTACT: Ricky Clark at (202) 632-5400, Fax (202) 343-1434.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

Titles: Veterans Affairs Acquisition Regulation (VAAR) Provision 852.211-71, Special Notice.

OMB Control Number: 2900-0588.

Type of Review: Extension without change of a previously approved collection.

Abstract: VAAR provision 852.211-71 is used only in VA's telephone system acquisition solicitations and requires the contractor, after award of the contract, to submit descriptive literature on the equipment the contractor intends to furnish to show how that equipment meets the specification requirements of the solicitation. The information is needed to ensure that the equipment proposed by the contractor meets the specification requirements. Failure to require the information could result in the installation of equipment that does not meet contract requirements, with significant loss to the contractor if the contractor subsequently had to remove the equipment and furnish equipment that did meet the specification requirements. The contracting officer will use the information to evaluate whether or not the item offered meets the specification requirements.

An agency may not conduct or sponsor, and a person is not required to respond to a collection of information unless it displays a currently valid OMB control number.

Affected Public: Business or other for-profit and not-for-profit institutions.

Estimated Annual Burden: 875 hours.

Estimated Average Burden per Respondent: 300 minutes.

Frequency of Response: On occasion.

Estimated Number of Respondents: 175.

By direction of the Secretary.
Cynthia Harvey-Pryor,
Program Specialist, Enterprise Records Management Service, Office of Privacy and Records Management, Department of Veterans Affairs.

[FR Doc. 2016-14685 Filed 6-21-16; 8:45 am]

BILLING CODE 8320-01-P